FEDERAL RESERVE SYSTEM

Formations of, Acquisitions by, and Mergers of Bank Holding Companies; Correction

This notice corrects a notice (FR Doc. 05-9023) published on pages 24041 and 24042 of the issue for Friday, May 6, 2005.

Under the Federal Reserve Bank of St. Louis heading, the entry for First National Bancorp, Inc., Green Forest, Arizona, is revised to read as follows:

A. Federal Reserve Bank of St. Louis (Glenda Wilson, Community Affairs Officer) 411 Locust Street, St. Louis, Missouri 63166-2034:

1. First National Bancorp, Inc., Green Forest, Arkansas; to acquire voting shares of Legacy National Bank, Springdale, Arkansas.

Comments on this application must be received by May 28, 2005.

Board of Governors of the Federal Reserve System, May 10, 2005
Robert deV. Frierson,
Deputy Secretary of the Board.

[FR Doc. 05-9731 Filed 5-13-05; 8:45 am]

BILLING CODE 6210-01-S